DEPARTMENT OF TRANSPORTATION

Coast Guard

33 CFR Part 165

[CGD09-01-048]

Safety Zone: Captain of the Port Detroit Zone

AGENCY: Coast Guard, DOT.

ACTION: Notice of implementation of final rule.

SUMMARY: The Coast Guard is implementing safety zones for annual fireworks displays in the Captain of the Port Detroit Zone during June 2001. This action is necessary to provide for the safety of life and property on navigable waters during these events. These zones will restrict vessel traffic from a portion of the Captain of the Port Detroit Zone.

DATES: Effective from 12:01 a.m.(EST) on June 1, 2001 to 11:59 p.m.(EST) on June 30, 2001.

FOR FURTHER INFORMATION CONTACT: Ensign Brandon Sullivan, U.S. Coast Guard Marine Safety Office Detroit, MI (313) 568-9580.

SUPPLEMENTARY INFORMATION: The Coast Guard is implementing the permanent safety zones in 33 CFR 165.907 (published May 21, 2001, in the Federal Register, 66 FR 27868), for fireworks displays in the Captain of the Port Detroit Zone during June 2001. The following safety zones are in effect for fireworks displays occurring in the month of June 2001:

(1) Bay-Rama Fishfly Festival, New Baltimore, MI. Location: All waters off New Baltimore City Park, Lake St. Clair-Anchor Bay bounded by the arc of a circle with a 300-yard radius with its center located at approximate position 42° 41′N, 082° 44′W, June 13, 2001, from 9 p.m. to 11 p.m.

(2) Jefferson Beach Marina Fireworks, St. Clair Shores, MI. Location: All waters of Lake St. Clair within a 300-yard radius of the fireworks barge in approximate position 42° 32′N, 082° 51′W, about 1000 yards east of Jefferson Beach Marina on June 28, 2001, from 9:30 p.m. to 10:30 p.m.

(3) St. Clair Shores Fireworks, St. Clair Shores, MI. Location: All waters of Lake St. Clair within a 300-yard radius of the fireworks barge in approximate position 42° 32′N, 082° 51′W, about 1000 yards east of Veterans Memorial Park (off Masonic Rd.), St. Clair Shores, MI on June 29, 2001, from 10 p.m. to 10:30 p.m.

(4) City of Wyandotte Fireworks, Wyandotte, MI. Location: The waters off the breakwall between Oak & Van Alstyne St., Detroit River bounded by the arc of a circle with a 300-yard radius with its center in approximate position 42° 12′N, 083° 09′W on June 29, 2001 from 9:15 p.m. to 10:15 p.m.

(5) Grosse Pointe Farms Fireworks, Grosse Pointe Farms, MI. Location: All waters of Lake St. Clair within a 300-yard radius of the fireworks barge in approximate position 42° 23′N, 082° 52′W, about 300 yards east of Grosse Pointe Farms on June 30, 2001 from 9:30 p.m. to 10:30 p.m.

(6) Grosse Ile Yacht Club Fireworks, Grosse Ile, MI. Location: The waters off the Grosse Ile Yacht Club deck, Detroit River bounded by the arc of a circle with a 300-yard radius with its center approximately located at 42° 05′N, 083° 09′W on June 30, 2001 from 9:45 p.m. to 10:45 p.m.

(7) Sigma Gamma Assoc., Grosse Pointe Farms, MI. Location: The waters off Ford's Cove, Lake St. Clair bounded by the arc of a circle with a 300-yard radius with its center in approximate position 42° 27′N, 082° 52′W on June 25, 2001 from 9 p.m. to 10 p.m.

In order to ensure the safety of spectators and transiting vessels, these safety zones will be in effect for the duration of the events. Vessels may not enter the safety zones without permission from Captain of the Port Detroit. If you would like permission, contact the person listed in FOR FURTHER INFORMATION CONTACT. Spectator vessels may anchor outside the safety zones but are cautioned not to block a navigable channel.

Dated: May 25, 2001.
S.P. Garrity,
Commander, U.S. Coast Guard, Captain of the Port Detroit.

[FR Doc. 01-14091 Filed 6-1-01; 8:45 am]

BILLING CODE 4910-15-P